DEPARTMENT OF AGRICULTURE

Forest Service

McNally Fire/Sherman Pass Restoration Project

AGENCY: USDA Forest Service.

ACTION: Notice of intent to prepare an environmental impact statement.

SUMMARY: The Department of agriculture, forest Service is preparing an environmental impact statement (EIS) to address the impacts of the McNally Fire. In July and August of 2002, the Sequoia National Forest experienced the largest wildfire in its history. The Sequoia National Forest proposes to begin long-term ecological restoration on portions the fire damaged areas on the Cannell Meadow Ranger District that are outside of inventoried roadless areas. The McNally Fire/Sherman Pass Restoration Project would implement restoration measures on those watersheds containing conifer habitats that are outside the roadless areas and that burned with a moderate to high severity leading to heavy tree mortality. The fire produced adverse effects to forest resources such as soils, riparian areas, and wildlife habitat. The fire also killed thousands of trees that if left untreated will contribute to high loading over time and re-create high risks for another catastrophic fire. The goal of the project is to move the burned areas toward the desired conditions described in the Sequoia National Forest Land and Resource Management Plan (Forest Plan) as amended by the Sierra Nevada Forest Plan Amendment (SNFPA).

DATES: The public is asked to submit any issues (points of concern, debate, dispute, or disagreement) regarding potential effects of the proposed action by February 12, 2003. The draft EIS is expected to be available for public comment in August 2003 and the final EIS is expected to be published in November 2003.

ADDRESSES: Send written comments to: McNally Fire/Sherman Pass Restoration Project USDA Forest Service, Sequoia National Forest, 900 W. Grand Avenue, Porterville, CA 93257.

FOR FURTHER INFORMATION CONTACT: Tom Simonson, Ecosystem Manager, Sequoia National Forest, at the Address listed above. The phone number is (559) 784-1500.

SUPPLEMENTARY INFORMATION:

Purpose and Need for Action

In light of desired conditions specified in our Forest Plan and the existing conditions within the project area outlined above, there is an immediate need to:

1. Re-establish burned conifer stands to provide important habitat for such old forest species as the spotted owl, fisher, marten, and goshawk within 250 years.

2. Restore ground cover to soils left unprotected by the fire in order to minimize erosion in the short term, to protect from catastrophic fires and to replace organic material over the long term.

3. Reduce existing fuels to 10-15 tons per acre in order to reduce the risk of another stand-replacing fire which would damage recovering habitats and riparian condition, thereby setting back the clock on development of old forest habitat and riparian restoration.

Proposed Action

This project proposes to restore approximately 6,000 acres of conifer habitat and riparian areas with a combination of treatment methods. Within these 6,000 acres, approximately 1,600 acres are within Riparian Conservation Areas (RCA). All the areas proposed for treatment are to be managed as either RCAs or Old Forest Emphasis (OFE) areas following direction in the Forest Plan as amended.

Treatments that would be applied in a specific area depend upon the specific restoration need, the slope of the terrain, the degree of confer mortality, and the land management allocation. Where possible, dead trees that have commercial value and that are not needed to meet resource objectives would be removed from the site through a commercial timber sale, as fuelwood, or as other products. This commercial component is important both to ensure viability of the operation and to generate funds to finance related restoration activities within the project area.

Felling of dead trees across the contour of the slope is proposed to stabilize sediment. Reforestation with conifers is proposed to re-establish habitats occupied by late seral species prior to the fire and in order to link together suitable remnant habitats and restore large expanses of old forest habitat. Large-diameter snags and logs will be retained in sufficient quantity to maintain legacy structures for both the late-seral species and their prey. Vegetation control by hand removal is proposed during the first five years after planting to help ensure survival of planted trees.

Riparian Conservation Areas (RCA) would also be treated to restore riparian values by re-establishing vegetation, reducing excessive fuel loadings, stabilizing stream channels and sediment, and improving ground cover conditions. Contour felling of dead trees is proposed to stabilize sediment. Planting of native plants such as conifers, willows, and alders is proposed to re-establish the riparian corridor.

Responsible Official

The responsible official is Forest Supervisor Arthur L. Gaffrey, Sequoia National Forest, 900 West Grand Ave., Porterville, California 93257.

Comment Requested

The comment period on the draft EIS will be 45 days from the date the Environmental Protection Agency publishes the notice of availability in the Federal Register.

The Forest Service believes that, at this early stage, it is very important to give reviewers notice of several court rulings related to public participation in the environmental review process. First, reviewers of a draft EIS must structure their participation in the environmental review of the proposal so that it is meaningful and alerts the agency to the reviewer's position and contentions. Vermont Yankee Nuclear Power Corp. v. NRDC, 435 U.S. 519, 553 (1978). Also, environmental objections that could be raised at the draft EIS stage, but that are not raised until after completion of the final EIS, may be waived or dismissed by the courts. City Angoon v. Hodel, 803 F.2d 1016, 1022 (9th Cir. 1986) and Wisconsin Heritages, Inc. v. Harris, 490 F. Supp. 1334 (E.D. Wis. 1980). Because of these court rulings, it is very important that persons interested in this proposed action participate by the close of the 45-day comment period so that substantive comments and objections are made available to the Forest Service at a time when it can meaningfully consider them and respond to them in the final EIS. To assist the Forest Service in identifying and considering issues and concerns on the proposed action, comments should be as specific as possible.

Dated: December 23, 2002.
Arthur L. Gaffrey,
Forest Supervisor, Sequoia National Forest, USDA, Forest Service.

[FR Doc. 03-1 Filed 1-2-03; 8:45 am]

BILLING CODE 3410-11-M